DEPARTMENT OF TRANSPORTATION

Federal Aviation Administration

Proposed FAA Order 8110.TVP, Type Validation and Post-Type Validation Procedures

AGENCY: Federal Aviation Administration, DOT.

ACTION: Notice of availability and request for public comment.

SUMMARY: This notice announces the availability of and request for comments on the proposed Federal Aviation Administration Order 8110.TVP. This proposed order defines FAA policy and procedures in type certification and post-type certification for imported and exported products. We also define the expectations, roles and, responsibilities of the importing authority, the exporting authority, and the applicant. We set up specific procedures for certification personnel working with the European Aviation Safety Agency (EASA) and member authorities of the joint Aviation Authorities of Europe (JAA).

DATES: Comments must be received on or before March 11, 2005.

ADDRESSES: Send all comments on the proposed revised Order to: Federal Aviation Administration, Aircraft Certification Service, Aircraft Engineering Division, Room 815, 800 Independence Avenue, SW., Washington, DC 20591. ATTN: Gregory A. Edwards, AIR-110. You may deliver comments to: Federal Aviation Administration, Room 815, 800 Independence Avenue, SW., Washington, DC 20591, or electronically submit comments to the following Internet address: 9-AWA-AVS-AIR-TVPOrder@faa.gov. Include in the subject line of your message the title of the document, “TVP Order.”

FOR FURTHER INFORMATION CONTACT: Gregory A. Edwards, Aerospace Engineer, Federal Aviation Administration, Aircraft Certification Service, Aircraft Engineering Division, Certification Procedures Branch, AIR-110, Room 815, 800 Independence Avenue, SW., Washington, DC 20591. Telephone (202) 267-9287, Fax (202) 267-5340, or e-mail at: greg.edwards@faa.gov

SUPPLEMENTARY INFORMATION:

Comments Invited

Your are invited to comment on the draft order listed in this notice by sending such written data, views, or arguments to the above listed address. Please identify “TVP Order” as the subject of your comments. You may also examine comments received on the draft order before and after the comment closing date at the FAA Headquarters Building, Room 815, 800 Independence Avenue, SW., Washington, DC 20591, weekdays except Federal holidays, between 8:30 a.m. and 4:30 p.m. All communications received on or before the closing date will be considered by the Director of the Aircraft Certification Service before issuing the final Order.

Background

In the mid-1990s, the JAA and we recognized the need to streamline the certification and continued airworthiness processes we apply to imported aviation products. We established sets of type validation and post-type validation principles in a letter of understanding, signed in November 1997. These principles were later amended in November 2001.

The European Parliament approved legislation setting up EASA in July 2002. The new agency, which began operating in September 2003, assumed the certification and validation authority previously exercised by the individual National Aviation Authorities. EASA recognizes existing bilateral agreements between the United States and European Union member states until a single, new bilateral agreement is negotiated between the United States and the European Union. Forming EASA gave everyone the opportunity to look at the validation and post-validation processes, to incorporate lessons learned, and tailor them to the new European aviation certification system. As a result, we streamlined the principles and extended the scope.

How To Obtain Copies

You can get an electronic copy via the Internet at http://www.faa.gov/certification/aircraft/DraftDoc/Comments.htm or by contacting the person named in the paragraph FOR FURTHER INFORMATION CONTACT.

Issued in Washington, DC, on February 11, 2005.
Susan J.M. Cabler,
Assistant Manager, Aircraft Engineering Division, Aircraft Certification Service.

[FR Doc. 05-3021 Filed 2-16-05: 8:45 am]

BILLING CODE 4910-13-M